FEDERAL ELECTION COMMISSION

Sunshine Act Meeting

PREVIOUSLY ANNOUNCED DATE & TIME: Meeting closed to the public.

This meeting was cancelled.

* * * * *

DATE AND TIME: Thursday, April 1, 2004. at 10 a.m.

PLACE: 999 E Street, NW., Washington, DC (Ninth Floor).

STATUS: This meeting will be open to the public.

THE FOLLOWING ITEM HAS BEEN ADDED TO THE AGENDA: Certification for Payment of Presidential Primary Marching Funds: Rev. Alfred C. Sharpton/Sharpton 2004.

FOR FURTHER INFORMATION CONTACT: Robert Biersack, Acting Press Officer, Telephone (202) 694-1220.

Mary W. Dove,
Secretary of the Commission.

[FR Doc. 04-7551 Filed 3-31-04; 9:39 am]

BILLING CODE 6715-01-M